ENVIRONMENTAL PROTECTION AGENCY

[ER-FRL-9054-6]

Environmental Impact Statements; Notice of Availability

Responsible Agency: Office of Federal Activities, General Information 202-564-5632 or https://www.epa.gov/nepa.

Weekly receipt of Environmental Impact Statements (EIS)

Filed December 17, 2020 10 a.m. EST Through December 23, 2020 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200263, Draft, DOE, ID, Draft Versatile Test Reactor Environment Impact Statement, Comment Period Ends: 02/16/2021, Contact: James Lovejoy 208-526-6805.

EIS No. 20200264, Draft, NMFS, ME, Regulatory Impact Review, and Initial Regulatory Flexibility Analysis for Amending the Atlantic Large Whale Take Reduction Plan: Risk Reduction Rule, Comment Period Ends: 03/01/2021, Contact: Colleen Coogan 978-281-9181.

Amended Notice

EIS No. 20200199, Draft, USA, AK, Heat and Electrical Upgrades at Fort Wainwright, Alaska, Comment Period Ends: 02/22/2021, Contact: Laura Sample 907-361-6323. Revision to FR Notice Published 10/09/2020; Extending the Comment Period from 12/08/2020 to 02/22/2021.

Dated: December 23, 2020.
Cindy S. Barger,
Director, NEPA Compliance Division, Office of Federal Activities.

[FR Doc. 2020-28940 Filed 12-30-20; 8:45 am]

BILLING CODE 6560-50-P